GENERAL SERVICES ADMINISTRATION

41 CFR Part 301-11

[FTR Amendment 2011-05; FTR Case 2011-309; Docket Number 2011-0024, Sequence 1]

RIN 3090-AJ22

Federal Travel Regulation (FTR); Lodging Reimbursement

AGENCY: General Services Administration.

ACTION: Final rule.

SUMMARY: The General Services Administration (GSA) is amending the Federal Travel Regulation (FTR) regarding reimbursement of lodging per diem expenses while on temporary duty travel (TDY). This final rule specifically states GSA's policy in regards to reimbursement for personally-owned residence and personally-owned recreational vehicle expenses while on TDY.

DATES: Effective Date: This final rule is effective October 14, 2011.

FOR FURTHER INFORMATION CONTACT: The Regulatory Secretariat (MVCB), 1275 First Street, NE., Washington, DC 20417, (202) 501-4755, for information pertaining to status or publication schedules. For clarification of content, contact Ms. Cheryl D. McClain, Office of Governmentwide Policy, at (202) 208-4334 or e-mail at cheryl.mcclain@gsa.gov. Please cite FTR Amendment 2011-05; FTR case 2011-309.

SUPPLEMENTARY INFORMATION:

A. Background

Pursuant to 5 U.S.C. 5707, the Administrator of General Services is authorized to prescribe necessary regulations to implement laws regarding reimbursement for Federal employees who travel in the performance of official business away from their official stations. The overall implementing authority is the Federal Travel Regulation (FTR), codified in Title 41 of the Code of Federal Regulations (CFR), Chapters 300-304 (41 CFR chapters 300-304).

GSA is amending the FTR by revising section 301-11.12. This section contains language regarding reimbursement to travelers based upon the type of lodging they select while on temporary duty travel (TDY). Specifically, this final rule expressly states GSA's policy that agencies are not authorized to reimburse the lodging portion of per diem to travelers who purchase property, including recreational vehicles and campers, for lodging purposes in conjunction with TDY. In addition, this final rule amends GSA's policy that agencies are not authorized to reimburse the lodging portion of per diem to those who lodge at their personal residences while on TDY.

B. Executive Orders 12866 and 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This is not a significant regulatory action and, therefore, was not subject to review under Section 6(b) of Executive Order 12866, Regulatory Planning and Review, dated September 30, 1993. This rule is not a major rule under 5 U.S.C. 804.

C. Regulatory Flexibility Act

This final rule will not have a significant economic impact on a substantial number of small entities within the meaning of the Regulatory Flexibility Act, 5 U.S.C. 601, et seq. This final rule is also exempt from the Regulatory Flexibility Act per 5 U.S.C. 553(a)(2) because it applies to agency management or personnel.

D. Paperwork Reduction Act

The Paperwork Reduction Act does not apply because the final changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates to agency management and personnel.

List of Subjects in 41 CFR Part 301-11

Government employees, travel and transportation expenses.

Dated: September 30, 2011.
Martha Johnson,
Administrator of General Services.

For the reasons set forth in the preamble, under 5 U.S.C. 5701-5709, GSA amends 41 CFR part 301-11, as set forth below:

PART 301-11—PER DIEM EXPENSES

1. The authority citation for 41 CFR part 301-11 continues to read as follows:

Authority: 5 U.S.C. 5707.

2. Revise § 301-11.12 to read as follows:

§ 301-11.12 How does the type of lodging I select affect my reimbursement?

(a) Your agency will reimburse you for different types of lodging as follows:

(1) Conventional lodgings (hotel/motel, boarding house, etc.). You will be reimbursed the single occupancy rate.

(2) Government quarters. You will be reimbursed, as a lodging expense, the fee or service charge you pay for use of the quarters.

(3) Lodging with friend(s) or relative(s) (with or without charge). You may be reimbursed for additional costs your host incurs in accommodating you only if you are able to substantiate the costs and your agency determines them to be reasonable. You will not be reimbursed the cost of comparable conventional lodging in the area or a flat “token” amount.

(4) Nonconventional lodging. You may be reimbursed the cost of other types of lodging when there are no conventional lodging facilities in the area (e.g., in remote areas) or when conventional facilities are in short supply because of an influx of attendees at a special event (e.g., World's Fair or international sporting event). Such lodging includes college dormitories or similar facilities or rooms not offered commercially but made available to the public by area residents in their homes.

(5) Recreational vehicle (trailer/camper). You may be reimbursed for expenses (parking fees, fees for connection, use, and disconnection of utilities, electricity, gas, water and sewage, bath or shower fees, and dumping fees) which may be considered as a lodging cost.

(b) Your agency will not reimburse you for:

(1) Personally-owned residence. You will not be reimbursed for any lodging expenses for staying at your personally-owned residence or for any real estate expenses associated with the purchase or sale of a personal residence at the TDY location, except in conjunction with an authorized relocation pursuant to Chapter 302 of this Title.

(2) Personally-owned Recreational vehicle (trailer/camper). You will not be reimbursed any expenses associated with the purchase, sale or payment of a recreational vehicle or camper at the TDY location.

[FR Doc. 2011-26576 Filed 10-13-11; 8:45 am]

BILLING CODE 6820-14-P